DEPARTMENT OF THE TREASURY

Alcohol and Tobacco Tax and Trade Bureau

27 CFR Part 9

[Docket No. TTB-2015-0010; Notice No. 154]

RIN 1513-AC19

Proposed Establishment of the Champlain Valley of New York Viticultural Area

AGENCY: Alcohol and Tobacco Tax and Trade Bureau, Treasury.

ACTION: Notice of proposed rulemaking.

SUMMARY: The Alcohol and Tobacco Tax and Trade Bureau (TTB) proposes to establish the “Champlain Valley of New York” viticultural area in Clinton and Essex Counties, New York. The proposed viticultural area does not lie within or contain any established viticultural area. TTB designates viticultural areas to allow vintners to better describe the origin of their wines and to allow consumers to better identify wines they may purchase. TTB invites comments on this proposed addition to its regulations.

DATES: Comments must be received by August 31, 2015.

ADDRESSES: Please send your comments on this notice to one of the following addresses:

• Internet: http://www.regulations.gov (via the online comment form for this notice as posted within Docket No. TTB-2015-0010 at “Regulations.gov,” the Federal e-rulemaking portal);

• U.S. Mail: Director, Regulations and Rulings Division, Alcohol and Tobacco Tax and Trade Bureau, 1310 G Street NW., Box 12, Washington, DC 20005; or

• Hand delivery/courier in lieu of mail: Alcohol and Tobacco Tax and Trade Bureau, 1310 G Street NW., Suite 400, Washington, DC 20005.

See the Public Participation section of this notice for specific instructions and requirements for submitting comments, and for information on how to request a public hearing or view or obtain copies of the petition and supporting materials.

FOR FURTHER INFORMATION CONTACT: Karen A. Thornton, Regulations and Rulings Division, Alcohol and Tobacco Tax and Trade Bureau, 1310 G Street NW., Box 12, Washington, DC 20005; phone 202-453-1039, ext. 175.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels and ensure that labels provide the consumer with adequate information as to the identity and quality of the product. The Alcohol and Tobacco Tax and Trade Bureau (TTB) administers the FAA Act pursuant to section 1111(d) of the Homeland Security Act of 2002, codified at 6 U.S.C. 531(d). The Secretary has delegated various authorities through Treasury Department Order 120-01, dated December 10, 2013, to the TTB Administrator to perform the functions and duties in the administration and enforcement of this law.

Part 4 of the TTB regulations (27 CFR part 4) authorizes TTB to establish definitive viticultural areas and regulate the use of their names as appellations of origin on wine labels and in wine advertisements. Part 9 of the TTB regulations (27 CFR part 9) sets forth the standards for the preparation and submission to TTB of petitions for the establishment or modification of American viticultural areas (AVAs) and lists the approved American viticultural areas.

Definition

Section 4.25(e)(1)(i) of the TTB regulations (27 CFR 4.25(e)(1)(i)) defines a viticultural area for American wine as a delimited grape-growing region having distinguishing features, as described in part 9 of the regulations, and a name and a delineated boundary, as established in part 9 of the regulations. These designations allow vintners and consumers to attribute a given quality, reputation, or other characteristic of a wine made from grapes grown in an area to the wine's geographic origin. The establishment of AVAs allows vintners to describe more accurately the origin of their wines to consumers and helps consumers to identify wines they may purchase. Establishment of an AVA is neither an approval nor an endorsement by TTB of the wine produced in that area.

Requirements

Section 4.25(e)(2) of the TTB regulations (27 CFR 4.25(e)(2)) outlines the procedure for proposing an AVA and provides that any interested party may petition TTB to establish a grape-growing region as a viticultural area. Section 9.12 of the TTB regulations (27 CFR 9.12) prescribes the standards for petitions for the establishment or modification of AVAs. Petitions to establish an AVA must include the following:

• Evidence that the area within the proposed AVA boundary is nationally or locally known by the viticultural area name specified in the petition;

• An explanation of the basis for defining the boundary of the proposed AVA;

• A narrative description of the features of the proposed AVA affecting viticulture, such as climate, geology, soils, physical features, and elevation, that make the proposed AVA distinctive and distinguish it from adjacent areas outside the proposed boundary;

• The appropriate United States Geological Survey (USGS) map(s) showing the location of the proposed AVA, with the boundary of the proposed AVA clearly drawn thereon; and

• A detailed narrative description of the proposed AVA boundary based on USGS map markings.

Champlain Valley of New York Petition

TTB received a petition from Colin Read, owner of North Star Vineyard, on behalf of the Lake Champlain Grape Growers Association, proposing the establishment of the “Champlain Valley of New York” AVA. The proposed AVA is located within a long, narrow valley on the western shore of Lake Champlain and is approximately 82 miles long and approximately 20 miles wide at its widest point. The proposed AVA encompasses approximately 500 square miles and has 6 bonded wineries, as well as 11 commercial vineyards covering a total of approximately 15.47 acres distributed throughout the proposed AVA. The petition notes that there are an additional 63 acres of vineyards planned for planting within the proposed AVA in the next few years.

According to the petition, the distinguishing feature of the proposed Champlain Valley of New York AVA is its short growing season, which is conducive to growing cold-hardy North American hybrid varieties of grapes (such as Frontenac, La Crescent, and Marquette) but not Vitis vinifera (V. vinifera) grapes. The petition also included descriptions of the precipitation, topography, soils, and geology of the proposed AVA. However, the petition did not discuss the viticultural significance of these features or provide data from the surrounding regions for contrast. Therefore, TTB does not consider them to be distinguishing features of the proposed AVA, and they are not discussed in this proposed rule. Unless otherwise noted, all information and data pertaining to the proposed AVA contained in this document are from the petition for the proposed Champlain Valley of New York AVA and its supporting exhibits.

Name Evidence

The proposed Champlain Valley of New York AVA derives its name from Lake Champlain, which lies on the border between New York and the State of Vermont and extends north into the Canadian Province of Quebec. According to the petition, the long, narrow valley surrounding the lake has been known as the Champlain Valley since the region was explored and settled by French and English explorers. Because the name “Champlain Valley” also applies to the portions of the valley that are in Vermont and Canada, the petitioner proposed the name “Champlain Valley of New York” to more accurately describe the location of the proposed AVA.

Federal and State agencies and departments currently refer to the region of the proposed AVA as the “Champlain Valley.” In 2005, Congress designated Lake Champlain and Lake George, which is immediately to the south of Lake Champlain, as a single National Heritage Area formally known as the Champlain Valley National Heritage Partnership (CVNHP). The purpose of the CVNHP is “to promote the Champlain Valley's natural and cultural treasures.” ¹ The Champlain Valley International Wine Trail was created in 2012 as part of the CVNHP to promote the wineries and vineyards along the lake in Canada, New York, and Vermont and allows visitors “to learn about the tremendous offering of vineyards and wineries in the unique terroir of the Champlain Valley.” ² The USDA soil survey for Clinton and Essex Counties, where the proposed AVA is located, designates the region of the proposed AVA as “Champlain Valley.” Finally, the Essex County Public Health Department published a map of hiking trails and recreational areas in the region of the proposed AVA titled “The Adirondack Park: Champlain Valley Region.”

¹ www.champlainvalleynhp.org/index.htm.

² www.lcbp.org/2012/11/champlain-international-wine-trail-announced.

The petition also included names of businesses and organizations throughout the proposed AVA that include “Champlain Valley” in their names. Examples from Plattsburg, located at the northern end of the proposed AVA, include the Champlain Valley Transportation Museum, Champlain Valley Physicians Hospital, and Champlain Valley Educational Services. Examples from Ticonderoga, at the southern end of the proposed AVA, include Champlain Valley Heating and Plumbing, Champlain Valley Chiropractic Service, and the Champlain Valley Services landscaping company.

Boundary Evidence

The proposed Champlain Valley of New York AVA consists of a long, narrow, relatively flat valley located along the western shore of Lake Champlain in Clinton and Essex Counties, New York. The north-south oriented valley roughly corresponds to the region of New York that was once covered by Lake Vermont, an ancient glacial lake that covered the region approximately 12,000 years ago and was a precursor to Lake Champlain. The proposed AVA encompasses approximately 500 square miles. It stretches approximately 82 miles from the U.S.-Canada border to Ticonderoga, New York, at the southern tip of Lake Champlain. The width of the proposed AVA ranges from approximately 20 miles across at it widest point, which is along the U.S.-Canada border, to less than 5 miles wide at its narrowest point, which is the land between State Highway 22 and the shore of Lake Champlain south of Port Henry, New York.

The northern boundary of the proposed Champlain Valley of New York AVA follows the U.S.-Canada border. The eastern boundary follows the western shoreline of Lake Champlain. To the east of both Lake Champlain and the proposed AVA is the Vermont side of the Champlain Valley, which has physical features similar to those of the New York side, but has a longer growing season. The southern boundary of the proposed AVA follows the Champlain-Hudson Divide, which separates the Champlain Valley from the Hudson River Valley. The western boundary follows a series of creeks and roads and separates the valley of the proposed AVA from the foothills of the Adirondack Mountains.

Distinguishing Feature

The distinguishing feature of the proposed Champlain Valley of New York AVA is a short growing season that is suitable for growing North American hybrid varieties of grapes but is too short for reliable cultivation of V. vinifera grapes. Although the proposed AVA extends approximately 82 miles from the U.S.-Canada border to the southern tip of Lake Champlain, temperatures within the proposed AVA are relatively uniform. The following table, derived from data included in the petition, lists the monthly maximum, minimum, and mean temperatures for four communities within the proposed AVA: Ticonderoga, located at the southernmost point of the proposed AVA; Peru, located approximately 50 miles north of Ticonderoga, in the middle of the proposed AVA; Plattsburgh, located approximately 10 miles north of Peru; and Chazy, located approximately 14 miles north of Plattsburgh and approximately 8 miles south of the U.S.-Canada border.

³ Source: National Climate Data Center, http://cdo.ncdc.noaa.gov/climatenormals/clim20/ny. Data is from monthly climate normals gathered by the National Oceanic and Atmospheric Administration from 1971-2000. Climate normal are gathered in 30-year increments. At the time the petition was submitted, the 1971-2000 climate normal was the most recent climate normal available for the region.

Average Daily Maximum, Minimum, and Mean Temperatures (Degrees Fahrenheit) Within Proposed AVA ³
Location | Month: Jan. | Month: Feb. | Month: Mar. | Month: Apr. | Month: May | Month: June | Month: July | Month: Aug. | Month: Sep. | Month: Oct. | Month: Nov. | Month: Dec.
Ticonderoga
Maximum | 29.5 | 29.3 | 40.8 | 53.5 | 68 | 75.7 | 82.1 | 78.2 | 72 | 59.2 | 44.7 | 32.7
Minimum | 10 | 8.8 | 22.4 | 33.6 | 46 | 54.5 | 61 | 57.9 | 50.8 | 40 | 29.5 | 15.9
Mean | 19.8 | 19 | 31.6 | 43.6 | 57 | 65.1 | 71.5 | 68 | 61.4 | 49.6 | 37.2 | 24.2
Peru
Maximum | 28.1 | 31.1 | 40.9 | 55.1 | 68.3 | 77.4 | 81.8 | 79.6 | 71 | 59.1 | 45.8 | 32.7
Minimum | 7.9 | 10.2 | 20.6 | 32.5 | 43.5 | 53.2 | 57.7 | 55.6 | 47.7 | 37.2 | 28.1 | 15
Mean | 18 | 20.7 | 30.7 | 43.8 | 55.9 | 65.2 | 69.7 | 67.6 | 59.3 | 48.1 | 36.9 | 23.9
Plattsburgh
Maximum | 27.9 | 29.1 | 39.8 | 54.1 | 67.2 | 76.7 | 81.4 | 78.4 | 70.4 | 58.8 | 45 | 32.2
Minimum | 9 | 9.4 | 21.1 | 34 | 44.5 | 54.2 | 59.4 | 57.3 | 49.9 | 39.1 | 29.5 | 15.5
Mean | 18.5 | 19.2 | 30.4 | 44 | 55.9 | 65.4 | 70.4 | 67.8 | 60.2 | 49 | 37.2 | 23.9
Chazy
Maximum | 26.9 | 28.4 | 39 | 54 | 67.5 | 76.3 | 80.9 | 78.7 | 70.3 | 58.3 | 44.6 | 31.3
Minimum | 7.1 | 8 | 19.8 | 33 | 44.1 | 53.7 | 58.9 | 56.6 | 48.7 | 38.6 | 28.6 | 14.3
Mean | 17 | 18.1 | 29.4 | 43.5 | 55.8 | 64.9 | 69.9 | 67.7 | 59.5 | 48.4 | 36.6 | 22.8

Because of the cool climate, the proposed AVA has a shorter growing season when compared to most of the surrounding regions. The following table, which was derived from information included in the petition, compares the probability of the last spring frost and the first fall frost within the proposed AVA and the surrounding regions. Peru, New York, was chosen as the representative location within the proposed AVA because of its central location. The two locations east of the proposed AVA are both located in Vermont: South Hero, which is located on Grand Isle in the middle of Lake Champlain, and Burlington, which is located on the eastern shore of Lake Champlain southeast of South Hero. Whitehall, New York, is located south of the proposed AVA, in the Hudson River Valley. Lake Placid is located approximately 40 miles west of Peru, within the Adirondack Mountains. Comparison data was not provided for the region to the north of the proposed AVA because the land is within Canada and is therefore ineligible for inclusion within an AVA.

⁴ Sources: 1971-2000 climate normal from http://cdo.ncdc.noaa.gov/climatenormals/clim20supp1/states/VT.pdf and http://cdo.ncdc.noaa.gov/climatenormals/clim20supp1/states/NY.pdf. The baseline temperature for frost is considered to be 32 degrees Fahrenheit.

⁵ The date at which there is a 10 percent probability of the last spring frost occurring later.

⁶ The date at which there is a 10 percent probability of the first fall frost occurring earlier.

⁷ The probability level that the growing season will be longer is 10 percent.

Comparison of Annual Frost Probabilities ⁴
Location (direction from proposed AVA) | Last spring frost date ⁵ | First fall frost date ⁶ | Growing season length (days) ⁷
Peru, NY (within) | May 25 | September 21 | 159
Whitehall, NY (south) | May 11 | September 24 | 173
Lake Placid, NY (west) | June 22 | August 30 | 116
South Hero, VT (east) | May 9 | September 27 | 183
Burlington, VT airport (east) | April 26 | September 23 | 164

The data shows that the proposed AVA has a later last-frost date, an earlier first-frost date, and a shorter growing season than the surrounding regions to the north, east, and south. The region east of the proposed AVA has a longer growing season due to the presence of Lake Champlain. According to the petition, as air moves eastward over the lake, it warms and increases in humidity. The warm, humid air reduces the risk of frost and contributes to a longer growing season on the Vermont side of the lake. Even though the lake is narrow, its moderating effect on surrounding temperatures is significant. The petition notes that South Hero, located on an island in Lake Champlain, is only one mile east of Peru, yet its growing season is almost 4 weeks longer than that of the proposed AVA.

The region to the south of the proposed Champlain Valley of New York AVA also has a longer growing season. The growing season in Whitehall, within the Hudson River Valley, is two weeks longer than that of the proposed AVA. The petition attributes the longer growing season to the warm, moist winds that flow upward along the Hudson River and the Mohawk Valley. These winds are blocked from entering the proposed AVA by the Champlain-Hudson Divide, which is the slight ridge that separates the two valley systems.

To the west of the proposed AVA, in Lake Placid within the Adirondack Mountains, the higher elevations bring colder temperatures and a growing season that is much shorter than that of the proposed AVA. According to the petition, the growing season within the Adirondack Mountains is too short for the commercial cultivation of grapes.

Because of the short growing season within the proposed Champlain Valley of New York AVA, V. vinifera grapes do not ripen reliably, so vineyard owners primarily grow cold-hardy North American hybrids. By contrast, V. vinifera grapes are commonly grown in the Vermont portion of the Champlain Valley, in the Hudson River Valley, and in the Upper Mohawk Valley near Lake Ontario.

TTB Determination

TTB concludes that the petition to establish the Champlain Valley of New York viticultural area merits consideration and public comment, as invited in this notice of proposed rulemaking.

Boundary Description

See the narrative description of the boundary of the petitioned-for viticultural area in the proposed regulatory text published at the end of this proposed rule.

Maps

The petitioner provided the required maps, and they are listed below in the proposed regulatory text.

Impact on Current Wine Labels

Part 4 of the TTB regulations prohibits any label reference on a wine that indicates or implies an origin other than the wine's true place of origin. For a wine to be labeled with a viticultural area name, at least 85 percent of the wine must be derived from grapes grown within the area represented by that name, and the wine must meet the other conditions listed in § 4.25(e)(3) of the TTB regulations (27 CFR 4.25(e)(3)). If the wine is not eligible for labeling with a viticultural area name and that name appears in the brand name, then the label is not in compliance and the bottler must change the brand name and obtain approval of a new label. Similarly, if the viticultural area name appears in another reference on the label in a misleading manner, the bottler would have to obtain approval of a new label. Different rules apply if a wine has a brand name containing a viticultural area name that was used as a brand name on a label approved before July 7, 1986. See § 4.39(i)(2) of the TTB regulations (27 CFR 4.39(i)(2)) for details.

If TTB establishes this proposed viticultural area, its name, “Champlain Valley of New York,” will be recognized as a name of viticultural significance under § 4.39(i)(3) of the TTB regulations (27 CFR 4.39(i)(3)). The text of the proposed regulation clarifies this point. Consequently, wine bottlers using the name “Champlain Valley of New York” in a brand name, including a trademark, or in another label reference as to the origin of the wine, would have to ensure that the product is eligible to use the viticultural name as an appellation of origin if this proposed rule is adopted as a final rule.

TTB does not believe that “Champlain Valley,” standing alone, should have viticultural significance if the proposed viticultural area is established, due to the fact that the feature known as the Champlain Valley extends into Vermont. Accordingly, the proposed part 9 regulatory text set forth in this document specifies only the full name “Champlain Valley of New York” as a term of viticultural significance for purposes of part 4 of the TTB regulations.

Public Participation

Comments Invited

TTB invites comments from interested members of the public on whether it should establish the proposed viticultural area. TTB is also interested in receiving comments on the sufficiency and accuracy of the name, boundary, soils, climate, and other required information submitted in support of the petition. Please provide any available specific information in support of your comments.

Because of the potential impact of the establishment of the proposed Champlain Valley of New York AVA on wine labels that include the term “Champlain Valley of New York” as discussed above under Impact on Current Wine Labels, TTB is particularly interested in comments regarding whether there will be a conflict between the proposed area name and currently used brand names. If a commenter believes that a conflict will arise, the comment should describe the nature of that conflict, including any anticipated negative economic impact that approval of the proposed viticultural area will have on an existing viticultural enterprise. TTB is also interested in receiving suggestions for ways to avoid conflicts, for example, by adopting a modified or different name for the viticultural area.

Submitting Comments

You may submit comments on this notice by using one of the following three methods:

• Federal e-Rulemaking Portal: You may send comments via the online comment form posted with this notice within Docket No. TTB-2015-0010 on “Regulations.gov,” the Federal e-rulemaking portal, at http://www.regulations.gov. A direct link to that docket is available under Notice No. 154 on the TTB Web site at http://www.ttb.gov/wine/wine-rulemaking.shtml. Supplemental files may be attached to comments submitted via Regulations.gov. For complete instructions on how to use Regulations.gov, visit the site and click on the “Help” tab.

• U.S. Mail: You may send comments via postal mail to the Director, Regulations and Rulings Division, Alcohol and Tobacco Tax and Trade Bureau, 1310 G Street NW., Box 12, Washington, DC 20005.

• Hand Delivery/Courier: You may hand-carry your comments or have them hand-carried to the Alcohol and Tobacco Tax and Trade Bureau, 1310 G Street NW., Suite 400, Washington, DC 20005.

Please submit your comments by the closing date shown above in this notice. Your comments must reference Notice No. 154 and include your name and mailing address. Your comments also must be made in English, be legible, and be written in language acceptable for public disclosure. TTB does not acknowledge receipt of comments, and TTB considers all comments as originals.

In your comment, please clearly indicate if you are commenting on your own behalf or on behalf of an association, business, or other entity. If you are commenting on behalf of an entity, your comment must include the entity's name, as well as your name and position title. If you comment via Regulations.gov, please enter the entity's name in the “Organization” blank of the online comment form. If you comment via postal mail or hand delivery/courier, please submit your entity's comment on letterhead.

You may also write to the Administrator before the comment closing date to ask for a public hearing. The Administrator reserves the right to determine whether to hold a public hearing.